COMMISSION ON CIVIL RIGHTS

Sunshine Act Notice

AGENCY: United States Commission on Civil Rights.

ACTION: Notice of meeting.

Date and Time: Friday, November 5, 2010; 9:30 a.m. EDT.

Place: 624 Ninth Street, NW., Room 540, Washington, DC 20425.

Meeting Agenda

This meeting is open to the public.

I. Approval of Agenda

II. Program Planning

• Approval of Project Outline and Discovery Plan for FY 2011 Enforcement Report

• Discussion of Possible Briefing Topics for FY 2011

• Update on Status of Briefing on Disparate Impact in School Discipline Policies

III. Management & Operations

• Expiration of Commissioner Terms

IV. State Advisory Committee Issues

• Wisconsin SAC

V. Approval of Minutes of October 29 Meeting

VI. Adjourn

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: October 26, 2010.
Martin Dannenfelser,
Staff Director.

[FR Doc. 2010-27451 Filed 10-26-10; 4:15 pm]

BILLING CODE 6335-01-P